DEPARTMENT OF DEFENSE

Office of the Secretary

Charter Renewal of the Defense Science Board

AGENCY: Department of Defense (DoD).

ACTION: Renewal of Federal advisory committee.

SUMMARY: The DoD is publishing this notice to announce that it is renewing the charter for the Defense Science Board (“the Board”).

FOR FURTHER INFORMATION CONTACT: Jim Freeman, Advisory Committee Management Officer for the Department of Defense, 703-692-5952.

SUPPLEMENTARY INFORMATION: The Board's charter is being renewed in accordance with the Federal Advisory Committee Act (FACA) (5 U.S.C., Appendix) and 41 CFR 102-3.50(d). The charter and contact information for the Board's Designated Federal Officer (DFO) are found at https://www.facadatabase.gov/FACA/apex/FACAPublicAgencyNavigation.

The Board, through the Under Secretary of Defense for Research and Engineering (USD(R&E)), shall provide the Secretary of Defense and the Deputy Secretary of Defense independent advice and recommendations on matters concerning science, technology, manufacturing, acquisition process, and other matters of special interest to the Department in response to specific tasks from the Secretary of Defense, the Deputy Secretary of Defense, the Chief Management Officer of the Department of Defense, or the USD(R&E).

The Board shall be composed of no more than 50 members, who are eminent authorities in the fields of science, technology, manufacturing, acquisition process, and other matters of special interest to the DoD.

Board members who are not full-time or permanent part-time Federal civilian officers, employees, or active duty members of the Armed Forces will be appointed as experts or consultants, pursuant to 5 U.S.C. 3109, to serve as special government employee members. Board members who are full-time or permanent part-time Federal civilian officers, employees, or active duty members of the Armed Forces will be appointed pursuant to 41 CFR 102-3.130(a), to serve as regular government employee members.

All members of the Board are appointed to provide advice on the basis of their best judgment without representing any particular point of view and in a manner that is free from conflict of interest. Except for reimbursement of official Board-related travel and per diem, members serve without compensation.

The public or interested organizations may submit written statements to the Board's membership about its mission and functions. Written statements may be submitted at any time or in response to the stated agenda of planned meeting of the Board. All written statements should be submitted to the Board's DFO, who will ensure that the written statements are provided to the membership for consideration.

Dated: April 30, 2020.
Aaron T. Siegel,
Alternate OSD Federal Register Liaison Officer, Department of Defense.

[FR Doc. 2020-09577 Filed 5-4-20; 8:45 am]

BILLING CODE 5001-06-P